NATIONAL AERONAUTICS AND SPACE ADMINISTRATION

[Notice: (10-094)]

NASA Advisory Council; Exploration Committee

AGENCY: National Aeronautics and Space Administration.

ACTION: Notice of meeting.

SUMMARY: In accordance with the Federal Advisory Committee Act, Public Law 92-463, as amended, the National Aeronautics and Space Administration announces a meeting of the Exploration Committee of the NASA Advisory Council.

DATES: Tuesday, September 21, 2010, 1 p.m.-6:30 p.m., Local Time.

ADDRESSES: NASA Headquarters, Glennan Conference Room (1Q39); 300 E Street, SW., Washington, DC 20546.

FOR FURTHER INFORMATION CONTACT: Ms. Jane Parham, Exploration Systems Mission Directorate, National Aeronautics and Space Administration Headquarters, 300 E Street, SW., Washington, DC 20546, 202/358-1715; jane.parham@nasa.gov.

SUPPLEMENTARY INFORMATION: The agenda topics for the meeting will include:

• Human Research Program Risk Development Process.

• Exploration of Near Earth Objects (NEO) Objectives Workshop Results.

• Global Point of Departure—Exploration Architecture and Other Agency Partnerships.

• Status of Commercial Crew/Cargo Activity.

The meeting will be open to the public up to the seating capacity of the room. It is imperative that the meeting be held on these dates to accommodate the scheduling priorities of the key participants. Visitors will need to show a valid government-issued picture identification such as driver's license or passport at the Visitor Center in the West Lobby, and must state they are attending the NASA Advisory Council Exploration Committee meeting in HQ Room 1Q39. Further, no later than September 7, 2010, all non-U.S. citizens must submit the following information to Ms. Jane Parham, Room 7C27, NASA Headquarters, 300 E Street, SW., Washington, DC 20546; Fax (202) 358-3406: Name, current address, citizenship, company affiliation (if applicable) to include address, telephone number, and their title, place of birth, date of birth, U.S. visa information to include type, number, and expiration date, U.S. Social Security Number (if applicable), Permanent Resident Alien card number and expiration date (if applicable), place and date of entry into the U.S., and passport information to include country of issue, number, and expiration date.

For questions, please call Jane Parham at (202) 358-1715.

Dated: August 19, 2010.
P. Diane Rausch,
Advisory Committee Management Officer, National Aeronautics and Space Administration.

[FR Doc. 2010-21054 Filed 8-24-10; 8:45 am]

BILLING CODE P